DEPARTMENT OF COMMERCE

National Oceanic and Atmospheric Administration

[I.D. 021704C]

Gulf of Mexico Fishery Management Council; Public Meetings; Correction

AGENCY: National Marine Fisheries Service (NMFS), National Oceanic and Atmospheric Administration (NOAA), Commerce.

ACTION: Notice of correction to a public meeting notice.

SUMMARY: The Gulf of Mexico Fishery Management Council will convene public meetings.

DATES: The meetings will be held on March 8-12, 2004.

ADDRESSES: These meetings will be held at the Adam's Mark Hotel, 64 South Water Street, Mobile, Alabama; telephone: 251-438-4000.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION: The initial notice published on February 24, 2004 (69 FR 8385). Below are the corrected agenda items. All other previously published information remains the same.

Council

March 11, 2004

8:30 a.m.-Convene.

8:45 a.m.-9:30 a.m.-Receive a report on the NMFS Regional Bycatch Plan.

9:30 a.m.-12 noon-Receive public testimony on the Draft Reef Fish Amendment 22 (Red Snapper Rebuilding Plan); the final Environmental Impact Statement (EIS) for Essential Fish Habitat (EFH); and applications for exempted fishing permits (EFPs).

1:30 p.m.-4:30 p.m.-Receive the Reef Fish Management Committee report.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Dated: February 24, 2004.
Tracey Thompson,
Acting Director, Office of Sustainable Fisheries, National Marine Fisheries Service.

[FR Doc. E4-415 Filed 2-26 -04; 8:45 am]

BILLING CODE 3510-22-S